FEDERAL RESERVE SYSTEM

Formations of, Acquisitions by, and Mergers of Bank Holding Companies; Correction

This notice corrects a notice (FR Doc. E6-16705) published on page 59789 of the issue for Wednesday, October 11, 2006.

Under the Federal Reserve Bank of Philadephia heading, the entry for Connestoga Bancorp, Inc., Chester Springs, Pennsylvania, is revised to read as follows:

A. Federal Reserve Bank of Philadelphia (Michael E. Collins, Senior Vice President) 100 North 6th Street, Philadelphia, Pennsylvania 19105-1521:

1. Conestoga Bancorp, Inc., Chester Springs, Pennsylvania; to merge with PSB Bancorp, Inc., Philadelphia, Pennsylvania, and thereby indirectly acquire voting shares of First Penn Bank, Philadelphia, Pennsylvania.

In connection with this application, Applicant also has applied to acquire Ironbridge Holding, Inc., Philadelphia, Pennsylvania, and thereby engage in providing management consulting and counseling activities, pursuant to section 225.28(b)(9)(i)(A)(1) of Regulation Y.

In addition, Applicant also has applied to acquire Jade Abstract Company, Feasterville,Pennsylvania, and engage in providing real estate settlement services, and Jade Insurance Agency, Inc., Feasterville, Pennsylvania, and engage in providing credit insurance, pursuant to sections 225.28(b)(2)(viii) and 225.28(b)(11)(i) of Regulation Y respectively.

Comments on this application must be received by November 3, 2006.

Board of Governors of the Federal Reserve System, October 11, 2006.
Robert deV. Frierson,
Deputy Secretary of the Board.

[FR Doc. E6-17152 Filed 10-16-06; 8:45 am]

BILLING CODE 6210-01-S